NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203

Dates & Times: May 16, 2006; 7:30 a.m.-9 p.m.; May 17, 2006; 8 a.m.-4p.m.

Place: University of Nebraska, Lincoln, NE.

Type of Meeting: Part-Open.

Contact Person: Dr. Thomas Rieker, Program Director, Materials Research Science and Engineering Centers Program Division of Materials Research, Room 1065, National Science Foundation, 4201 Wilson Boulevard, Arlington, VA 22230, Telephone (703) 292-4914.

Purpose of Meeting: To provide advice and recommendations concerning further support of the Materials Research Science and Engineering Center (MRSE).

Agenda: Tuesday, May 16, 2006

7:45 a.m.-8:45 a.m.

Closed—Executive Session.

8:45 a.m.-4:30 p.m.

Open—Review of the Materials Research. Science and Engineering Center at the University of Nebraska.

4:30 p.m.-5:45 p.m.

Closed—Executive Session.

7 p.m.-9 p.m.

Open—Dinner.

Wednesday, May 17, 2006

8 a.m.-9 a.m.

Closed—Executive Session.

9 a.m.-9:45 a.m.

Open—Review of the Materials Research. Science and Engineering Center at the University of Nebraska.

9:45 a.m.-3 p.m.

Closed—Executive Session, Draft and Review Report.

Reason for Closing: The work being reviewed may include information of a proprietary or confidential nature, including technical information; financial data, such as salaries and personal information concerning individuals associated with the proposals. these matters are exempt under 5 U.S.C. 552b(c), (4) and (6) of the Government in the Sunshine Act.

Dated: March 21, 2006
Susanne Bolton,
Committee Management Officer.

[FR Doc. 06-2898 Filed 3-24-06; 8:45 am]

BILLING CODE 7555-01-M